DEPARTMENT OF TRANSPORTATION

Federal Aviation Administration

14 CFR Part 39

[Docket No. FAA-2005-22974; Directorate Identifier 2005-NM-180-AD]

RIN 2120-AA64

Airworthiness Directives; BAE Systems (Operations) Limited Model BAe 146 Airplanes

AGENCY: Federal Aviation Administration (FAA), Department of Transportation (DOT).

ACTION: Supplemental notice of proposed rulemaking (NPRM); reopening of comment period.

SUMMARY: The FAA is revising an earlier NPRM for an airworthiness directive (AD) that applies to certain BAE Systems (Operations) Limited Model BAe 146 airplanes. The original NPRM would have required repetitive inspections to measure the depth of chafing or scoring in the skin along the full length of the wing-to-fuselage fairing from forward to aft ends at the contact between the seal and fuselage, and related investigative/corrective actions if necessary. The original NPRM resulted from a report of chafing in this area. This action revises the original NPRM by removing certain credit for prior accomplishment of proposed requirements. We are proposing this supplemental NPRM to detect and correct such chafing or scoring, which could result in reduced structural integrity of the fuselage.

DATES: We must receive comments on this supplemental NPRM by May 1, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this supplemental NPRM. Send your comments to an address listed in the ADDRESSES section. Include the docket number “Docket No. FAA-2005-22974; Directorate Identifier 2005-NM-180-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain BAE Systems (Operations) Limited Model BAe 146 airplanes. The original NPRM was published in the Federal Register on November 15, 2005 (70 FR 69286). The original NPRM proposed to require repetitive inspections to measure the depth of chafing or scoring in the skin along the full length of the wing-to-fuselage fairing from forward to aft ends at the contact between the seal and fuselage, and related investigative/corrective actions if necessary.

The original NPRM provided credit for accomplishment of certain service bulletins before the effective date of the AD. Since the original NPRM was issued, we have learned that two of the documents (BAE Systems (Operations) Limited Inspection Service Bulletins ISB.53-005, dated August 15, 1984, and ISB.53-067, dated December 23, 1987) are unavailable. We are therefore unable to determine the appropriateness of all of the procedures described in the service bulletin and must remove those references from this supplemental NPRM.

Comments

We have considered the following comments on the original NPRM.

Request To Correct Typographical Errors

The commenter, on behalf of Air Wisconsin Airlines Corporation, notes that the proposed AD misidentified two reference documents. In paragraph (c), the last Modification number should be HCM01698A. In paragraph (i), Table 1, the date listed for ISB.53-005, Revision 1, should be April 19, 1985.

We have corrected these references in this supplemental NPRM.

Additional Change to Original NPRM

We have revised the statement of the unsafe condition to clarify the effect of chafing or scoring in the skin along the full length of the wing-to-fuselage fairing from the forward to aft ends at the contact between the seal and fuselage.

FAA's Determination and Proposed Requirements of the Supplemental NPRM

Certain changes discussed above expand the scope of the original NPRM; therefore, we have determined that it is necessary to reopen the comment period to provide additional opportunity for public comment on this supplemental NPRM.

Costs of Compliance

The following table provides the estimated costs for U.S. operators to comply with this supplemental NPRM.

Estimated Costs, per Inspection Cycle
Action | Work hours | Average labor rate per hour | Parts | Cost per airplane | Number of U.S.- registered airplanes | Fleet cost
Inspection (ISB.53-005) | 2 | $65 | None | $130 | 35 | $4,550
Inspection (ISB.53-067) | 4 | 65 | None | 260 | 35 | 9,100

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2005-22974; Directorate Identifier 2005-NM-180-AD.

Comments Due Date

(a) The FAA must receive comments on this AD action by May 1, 2006.

Affected ADs

(b) None.

Applicability

(c) This AD applies to BAE Systems (Operations) Limited Model BAe 146-100A, -200A, and -300A series airplanes, certificated in any category, on which Modification HCM00301A or B has been done, and on which Modification HCM01698A has not been done.

Unsafe Condition

(d) This AD results from a report of chafing along the seal/fuselage contact area under the wing-to-fuselage fairing access panels on both sides of the fuselage. We are issuing this AD to detect and correct such chafing or scoring in this area, which could result in reduced structural integrity of the fuselage.

Compliance

(e) You are responsible for having the actions required by this AD performed within the compliance times specified, unless the actions have already been done.

Inspection

(f) Before the airplane accumulates 1,000 total flight cycles, or within 500 flight cycles after the effective date of this AD, whichever occurs later: Inspect, using a dial test indicator, to measure the depth of any chafing or scoring in the skin along the full length of the wing-to-fuselage fairing from forward to aft ends at the point of contact between the seal and fuselage on both sides of the fuselage. Do applicable related investigative/corrective actions in accordance with the Accomplishment Instructions of BAE Systems (Operations) Limited Inspection Service Bulletins ISB.53-005, Revision 2, dated February 16, 2004, and ISB.53-067, Revision 3, dated June 27, 2005, except as required by paragraph (g) of this AD. Do related investigative/corrective actions and repeat the inspection to measure the chafing/scoring at the times specified in the service bulletins, as applicable.

Exceptions to Service Bulletin Specifications

(g) Where the service bulletins referenced in this AD specify to contact the manufacturer for repair instructions: Before further flight, repair using a method approved by either the Manager, International Branch, ANM-116, Transport Airplane Directorate, FAA; or the Civil Aviation Authority (or its delegated agent).

(h) Although the service bulletins referenced in this AD specify to submit certain information to the manufacturer, this AD does not include that requirement.

Credit for Earlier Accomplishment

(i) Inspections and applicable investigative and corrective actions done before the effective date of this AD are acceptable for compliance with the requirements of paragraph (f) of this AD if done in accordance with one of the service bulletin versions identified in Table 1 of this AD, as applicable.

Table 1.—Credit Service Bulletins
BAE Systems (Operations) Limited Inspection Service Bulletin | Revision level | Date
ISB.53-005 | Revision 1 | April 19, 1985.
ISB.53-067 | Revision 1 | February 16, 1990.
| Revision 2 | February 16, 2004.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) British airworthiness directive G-2005-0020, dated July 6, 2005, also addresses the subject of this AD.

Issued in Renton, Washington, on March 24, 2006.
Ali Bahrami,
Manager, Transport Airplane Directorate, Aircraft Certification Service.

[FR Doc. E6-4927 Filed 4-4-06; 8:45 am]

BILLING CODE 4910-13-P